DEPARTMENT OF ENERGY

Federal Energy Regulatory Commission

[Docket No. EC01-98-000-000, et al.]

Public Service Company of New Mexico, et al.; Electric Rate and Corporate Regulation Filings

May 16, 2001.

Take notice that the following filings have been made with the Commission:

1. Public Service Company of New Mexico

[Docket No. EC01-98-000]

Take notice that on May 10, 2001, Public Service Company of New Mexico (PNM), filed an application pursuant to Sections 203 of the Federal Power Act, 16 U.S.C. §§ 824b and Part 33 of the Commission's regulations, 18 CFR Part 33. PNM requests authorization to transfer control over PNM to a new holding company that will own PNM through a mandatory share exchange transaction involving existing PNM shareholders.

Comment date: May 31, 2001, in accordance with Standard Paragraph E at the end of this notice.

2. Oklahoma Gas and Electric Company

[Docket No. EC01-100-000]

Take notice that on May 11, 2001, Oklahoma Gas and Electric Company (OGE) filed with the Federal Energy Regulatory Commission (Commission) an application pursuant to section 203 of the Federal Power Act requesting authorization to transfer operational control of certain jurisdictional transmission facilities to the Southwest Power Pool Regional Transmission Organization as proposed and described in the filing made by the Southwest Power Pool on October 13, 2000 in Docket No. RT01-34-000.

OGE states that a copy of the filing has been served on the Oklahoma Corporation Commission and the Arkansas Public Service Commission.

Comment date: June 1, 2001, in accordance with Standard Paragraph E at the end of this notice.

3. PSEG Fossil LLC

[Docket No. EG01-42-000]

Take notice that on May 9, 2001, PSEG Fossil LLC (Applicant), having its principal place of business at 80 Park Plaza, T16, Newark, New Jersey 07102, filed with the Federal Energy Regulatory Commission (FERC or the Commission) an amended and restated application for redetermination of exempt wholesale generator (EWG) status pursuant to Part 365 of the Commission's regulations.

The Applicant is a limited liability company formed under the laws of the State of Delaware. The Applicant is engaged, directly or indirectly through an affiliate as defined in Section 2(a)(11)(B) of the Public Utility Holding Company Act of 1935 (PUHCA), exclusively in owning or owning and operating eligible electric facilities and participating in project development activities incidental to such eligible electric facilities as authorized under PUHCA. The Applicant owns and operates eligible facilities located in Pennsylvania and New Jersey.

Comment date: June 6, 2001, in accordance with Standard Paragraph E at the end of this notice. The Commission will limit its consideration of comments to those that concern the adequacy or accuracy of the application.

4. Electricity Capital, LLC; El Cap I, LLC; El Cap II, LLC

[Docket Nos. EG01-171-000; EG01-177-000; EG01-178-000]

Take notice that on May 11, 2001, Electricity Capital, LLC (Electricity Capital), El Cap I, LLC (El Cap I), and El Cap II, LLC (El Cap II), Delaware limited liability companies, filed with the Federal Energy Regulatory Commission an amendment to its application for determination of exempt wholesale generator status pursuant to part 365 of the Commission's regulations.

Applicants are engaged directly and exclusively in the business of owning and operating all or part of one or more eligible facilities and selling electric energy and capacity at wholesale. Applicants intend to produce electricity using natural gas-fired generators.

Comment date: June 6, 2001, in accordance with Standard Paragraph E at the end of this notice. The Commission will limit its consideration of comments to those that concern the adequacy or accuracy of the application.

5. Reliant Energy Mid-Atlantic Power Holdings, L.L.C.

[Docket No. EG01-211-000]

Take notice that on May 10, 2001, Reliant Energy Mid-Atlantic Power Holdings, L.L.C. (Applicant) filed with the Federal Energy Regulatory Commission (Commission) a second amended and restated application for redetermination of exempt wholesale generator (EWG) status pursuant to Part 365 of the Commission's regulations.

The Applicant is a Delaware limited liability company that owns and operates EWGs and eligible facilities in New Jersey, Maryland and Pennsylvania. The Applicant is engaged directly, or indirectly through an affiliate as defined in Section 2(a)(11)(B) of the Public Utility Holding Company Act of 1935 (PUHCA), and exclusively in owning or operating or both owning and operating eligible electric facilities and participating in project development activities incidental to such eligible electric facilities as authorized under PUHCA.

Comment date: June 6, 2001, in accordance with Standard Paragraph E at the end of this notice. The Commission will limit its consideration of comments to those that concern the adequacy or accuracy of the application.

6. Calhoun Power Company I, LLC

[Docket No. EG01-212-000]

Take notice that on May 11, 2001, Calhoun Power Company I, LLC (Calhoun), with its principal office at 700 Universe Boulevard, Juno Beach, Florida 33408, filed with the Commission an application for determination of exempt wholesale generator status pursuant to Part 365 of the Commission's regulations.

Calhoun states that it is a Delaware limited liability company developing a 628 megawatt electric generating facility located in Calhoun County near Anniston, Alabama, which will be used to produce energy sold exclusively at wholesale.

Comment date: June 6, 2001, in accordance with Standard Paragraph E at the end of this notice. The Commission will limit its consideration of comments to those that concern the adequacy or accuracy of the application.

7. Cogeneration Association of California; Coalinga Cogeneration Company; Kern River Cogeneration Company; Mid-Set Cogeneration Company; Sycamore Cogeneration Company; Texaco Kern Field Projects; Sargent Canyon Cogeneration Company; Salinas River Cogeneration Company; Texaco North Midway Cogeneration Project; Texaco McKittrick Cogeneration Project; Midway Sunset Cogeneration Company; and Watson Cogeneration Company

[Docket Nos. EL01-77-000; EL01-64-000; EL01-67-000; EL01-71-000; (Not consolidated)]

Take notice that on May 10, 2001, the Cogeneration Association of California, et al. tendered for filing a Petition for Declaratory Order Finding Federal Preemption or for Enforcement Action Under Section 210(h) of the Public Utility Regulatory Policies Act of 1978, Motion to Intervene in Support of Related Dockets and Motion to Consolidate.

Comment date: May 31, 2001, in accordance with Standard Paragraph E at the end of this notice.

8. Carolina Power & Light Company Duke Energy Corporation; South Carolina Electric & Gas Company; GridSouth Transco, LLC

[Docket No. RT01-74-002]

Take notice that on May 14, 2001, Carolina Power & Light Company, Duke Energy Corporation, and South Carolina Electric & Gas Company (Applicants), on behalf of GridSouth Transco, LLC, submitted a supplemental filing. The filing includes those revisions to the GridSouth documents required by the Commission's order of March 14, 2001, in Docket No. RT01-74-000.

Comment date: June 15, 2001, in accordance with Standard Paragraph E at the end of this notice.

9. Consumers Energy Company

[Docket No. ER01-318-005]

Take notice that on May 10, 2001, Consumers Energy Company (Consumers) tendered for filing Sub Original Sheet Nos. 129 and 162 to its Open Access Transmission Tariff, Consumers First Revised FERC Electric Tariff No. 6, in compliance with the Commission's April 27, 2001 Order in Docket No. ER01-318-004. Both sheets have effective dates of November 1, 2000.

Copies of the revised tariff sheets were served upon all those on the service list in this proceeding.

Comment date: May 31, 2001, in accordance with Standard Paragraph E at the end of this notice.

10. California Independent System Operator Corporation

[Docket No. ER01-889-005]

Take notice that on May 11, 2001, the California Independent System Operator Corporation (ISO) tendered for filing a compliance filing in the above captioned docket. The ISO states that this filing has been served on all parties on the official service list in this docket.

Comment date: June 1, 2001, in accordance with Standard Paragraph E at the end of this notice.

11. Arizona Public Service Company

[Docket No. ER01-1940-001]

Take notice that on May 11, 2001, Arizona Public Service Company (APS) tendered for filing FERC revisions to its Open Access Transmission Tariff (OATT) to make changes to the Arizona Independent Scheduling Administrator Association's Protocols Manual, Attachment L of APS OATT.

A copy of this filing has been served on all parties on the service list.

Comment date: June 1, 2001, in accordance with Standard Paragraph E at the end of this notice.

12. Public Service Company of New Mexico

[Docket No. ER01-1845-001]

Take notice that on May 11, 2001, Public Service Company of New Mexico (PNM) tendered for filing a correction to its April 20, 2001 submittal of First Revised Sheet Nos. 90, 91 and 92 of PNM's Open Access Transmission Tariff to incorporate a change to the pricing methodology for energy provided by PNM for Schedule 4—Energy Imbalance Service. The correction incorporates the intended change in the pricing language as described in the transmittal letter to the April 20 filing. PNM's filing is available for public inspection at its offices in Albuquerque, New Mexico.

Copies of the filing have been sent to all PNM Tariff customers, all entities that have pending interconnection requests with PNM and the New Mexico Public Regulation Commission.

Comment date: June 1, 2001, in accordance with Standard Paragraph E at the end of this notice.

13. Arizona Public Service Company

[Docket No. ER01-173-003]

Take notice that on May 11, 2001, Arizona Public Service Company (APS) tendered for filing FERC ordered revisions to its Open Access Transmission Tariff (OATT) in the above referenced docket.

A copy of this filing has been served on all parties of the official service list.

Comment date: June 1, 2001, in accordance with Standard Paragraph E at the end of this notice.

14. Kansas City Power & Light Co

[Docket No. ER01-1707-001]

Take notice that on May 11, 2001, Kansas City Power & Light Company (KCPL) tendered for filing an amendment to its initial filing in the above-referenced proceeding. In particular, KCPL has provided additional cost support for its proposed rate and has submitted to proposed rate schedule in the format required by Section 35.9 of the Commission's Regulations (18 CFR 35.9).

Comment date: June 1, 2001, in accordance with Standard Paragraph E at the end of this notice.

15. Elizabethtown Power, LLC

[Docket No. ER01-1509-001]

Take notice that on May 11, 2001, Elizabethtown Power, LLC tendered for filing its FERC Electric Tariff, Original Volume No. 1 and accompanying Code of Conduct in compliance with the Commission's May 10, 2001, Order in the above-referenced docket.

Comment date: June 1, 2001, in accordance with Standard Paragraph E at the end of this notice.

16. Lumberton Power, LLC

[Docket No. ER01-1507-001]

Take notice that on May 11, 2001, Lumberton Power, LLC tendered for filing its FERC Electric Tariff, Original Volume No. 1 and accompanying Code of Conduct in compliance with the Commission's May 10, 2001, Order in the above-referenced docket.

Comment date: June 1, 2001, in accordance with Standard Paragraph E at the end of this notice.

17. Perryville Energy Partners, L.L.C.

[Docket No. ER01-1397-001]

Take notice that on May 11, 2001, Perryville Energy Partners, L.L.C. tendered for filing an amendment to the designations submitted with its Application for Acceptance of Market Based Rates, Certain Waivers and Blanket Authority, filed on March 5, 2001.

Comment date: June 1, 2001, in accordance with Standard Paragraph E at the end of this notice.

18. Xcel Energy Operating Companies Northern States Power Company

[Docket No. ER01-1332-001]

Take notice that on May 11, 2001, Northern States Power Company (NSP), a wholly-owned utility operating company subsidiary of Xcel Energy Inc., tendered for filing in Compliance with the Commission's Order of April 5, 2001, in the above referenced docket.

NSP requests the letter agreements be accepted for filing effective January 1, 2001, and requests waiver of the Commission's notice requirements in order for the Agreements to be accepted for filing on the date requested.

Comment date: June 1, 2001, in accordance with Standard Paragraph E at the end of this notice.

19. Westar Generating, Inc.

[Docket Nos. ER01-1305-003]

Take notice that on May 11, 2001, Westar Generating, Inc. (Westar) tendered for filing an Order No. 614 conformed Rate Schedule FERC No.1 between Westar and Western Resources, Inc. in compliance with the requirements of the Commission's April 27, 2001 Order Accepting for Filing and Suspending Subject To Refund, Proposed Purchase Power Agreement, Requiring Compliance Filing, Granting Waivers, and Establishing Hearing Procedures, 95 FERC § 61,137.

Copies of the filing were served on the Kansas Corporation Commission, Western Resources, Inc and on each person designated on the official service list compiled by the Secretary in this proceeding.

Comment date: June 1, 2001, in accordance with Standard Paragraph E at the end of this notice.

20. Southern Energy Delta, L.L.C. Southern Energy Potrero, L.L.C.

[Docket Nos. ER00-936-004; ER00-937-004]

Take notice that on May 11, 2001, Mirant Delta, LLC (formerly Southern Energy Delta, L.L.C.) and Mirant Potrero, LLC (formerly Southern Energy Potrero, L.L.C.) (collectively, the Mirant Parties) tendered for filing a refund report as required by the Offer of Settlement filed in the above-captioned proceedings on September 28, 2000, and approved by letter order issued pursuant to direction of the Commission on March 15, 2001, 94 FERC 61,275 (2001).

Comment date: June 1, 2001, in accordance with Standard Paragraph E at the end of this notice.

21. AmerGen Vermont, LLC

[Docket No. ER00-1027-002]

Take notice that on May 11, 2001, AmerGen Vermont, LLC (AmerGen Vermont) tendered for filing the Power Purchase Agreement with Vermont Yankee Nuclear Power Corporation (VYNPC), designated as AmerGen Vermont, LLC, Rate Schedule FERC No. 2, is canceled effective as of May 11, 2001.

Comment date: June 1, 2001, in accordance with Standard Paragraph E at the end of this notice.

22. Cinergy Services, Inc.

[Docket No. ER01-2018-000]

Take notice that on May 10, 2001, Cinergy Services, Inc. (Services) tendered for filing on behalf of its operating companies, The Cincinnati Gas & Electric Company and PSI Energy, Inc. (collectively Cinergy Operating Companies) a Letter Agreement, dated April 3, 2001, as a supplement to the Service Agreement No. 43, dated January 22, 1997, between Southwestern Electric Cooperative, Inc. (SWEC) and the Cinergy Operating Companies under the COC FERC Electric Market-Based Power Sales Tariff, Volume No. 7.

SWEC and the Cinergy Operating Companies have agreed to procedures for the curtailment of some of SWEC's load.

Copies of the filing were served on SWEC and the State Regulatory Commissions of Illinois, Ohio, Kentucky and Indiana.

Comment date: May 31, 2001, in accordance with Standard Paragraph E at the end of this notice.

23. Public Service Company of New Mexico

[Docket No. ER01-2019-000]

Take notice that on May 10, 2001, Public Service Company of New Mexico (PNM) tendered for filing two executed service agreements with Portland General Electric Company (Portland), under the terms of PNM's Open Access Transmission Tariff. One agreement is for short-term firm point-to-point transmission service and one is for non-firm point-to-point transmission service.

The effective date for the agreements is May 2, 2001, the date of execution. PNM's filing is available for public inspection at its offices in Albuquerque, New Mexico.

Copies of the filing have been sent to Portland and to the New Mexico Public Regulation Commission.

Comment date: May 31, 2001, in accordance with Standard Paragraph E at the end of this notice.

24. Carolina Power & Light Company and Florida Power Corporation

[Docket No. ER01-2020-000]

Take notice that on May 10, 2001, Carolina Power & Light Company (CPL) and Florida Power Corporation (FPC) tendered for filing a Notice of Cancellation of their joint Open Access Transmission Tariff (OATT), FERC Electric Tariff, Original Volume No. 1. This cancellation is being filed because CP&L and FPC have filed separate tariffs to replace the joint OATT on April 26, 2001 in Docket No. ER01-1807-000.

Copies of the filing were served upon the CP&L's and FPC's open access tariff customers, and the state commissions of North Carolina, South Carolina and Florida.

Comment date: May 31, 2001, in accordance with Standard Paragraph E at the end of this notice.

25. Entergy Services, Inc.

[Docket No. ER01-2021-000]

Take notice that on May 10, 2001, Entergy Services, Inc., on behalf of Entergy Louisiana, Inc., tendered for filing an Interconnection and Operating Agreement with Washington Parish Energy Center, L.L.C. (Energy Center), and a Generator Imbalance Agreement with Energy Center.

Comment date: May 31, 2001, in accordance with Standard Paragraph E at the end of this notice.

26. Illinois Power Company

[Docket No. ER01-2022-000]

Take notice that on May 10, 2001, Illinois Power Company (Illinois Power), 500 South 27th Street, Decatur, Illinois 65251-2200, tendered for filing with the Commission an Amended and Restated Service Agreement for Network Integration Transmission Service with Corn Belt Electric Cooperative Inc. (Corn Belt) entered into pursuant to Illinois Power's Open Access Transmission Tariff.

Illinois Power requests an effective date of May 1, 2001 for the Amended Agreement and accordingly seeks a waiver of the Commission's notice requirement. Illinois Power states that a copy of this filing has been sent to Corn Belt.

Comment date: May 31, 2001, in accordance with Standard Paragraph E at the end of this notice.

27. American Transmission Systems, Inc.

[Docket No. ER01-2023-000]

Take notice that on May 10, 2001, American Transmission Systems, Inc. tendered for filing a Service Agreement to provide Non-Firm Point-to-Point Transmission Service for Strategic Energy L.L.C., the Transmission Customer. Services are being provided under the American Transmission Systems, Inc. Open Access Transmission Tariff submitted for filing by the Federal Energy Regulatory Commission in Docket No. ER99-2647-000.

The proposed effective date under the Service Agreement is May 8, 2001 for the above mentioned Service Agreement in this filing.

Comment date: May 31, 2001, in accordance with Standard Paragraph E at the end of this notice.

28. American Transmission Systems, Inc.

[Docket No. ER01-2024-000]

Take notice that on May 10, 2001, American Transmission Systems, Inc. tendered for filing a Service Agreement to provide Firm Point-to-Point Transmission Service for Strategic Energy L.L.C., the Transmission Customer. Services are being provided under the American Transmission Systems, Inc. Open Access Transmission Tariff submitted for filing by the Federal Energy Regulatory Commission in Docket No. ER99-2647-000.

The proposed effective date under the Service Agreement is May 8, 2001 for the above mentioned Service Agreement in this filing.

Comment date: May 31, 2001, in accordance with Standard Paragraph E at the end of this notice.

29. Puget Sound Energy,

[Docket No. ER01-2025-000]

Take notice that on May 10, 2001, Puget Sound Energy, Inc., as Transmission Provider, tendered for filing a service agreement for Firm Point-To-Point Transmission Service and a service agreement for Non-Firm Point-To-Point Transmission Service with Merchant Energy Group of the Americas, Inc. (MEGA), as Transmission Customer. A copy of the filing was served upon MEGA.

Comment date: May 31, 2001, in accordance with Standard Paragraph E at the end of this notice.

30. Progress Energy, Inc. On behalf of Florida Power Corporation

[Docket No. ER01-2026-000]

Take notice that on May 11, 2001, Florida Power Corporation (FPC) tendered for filing Service Agreements for Short-Term Firm and Non-Firm Point-to-Point Transmission Service with FirstEnergy Services Corp. Service to this Eligible Customer will be in accordance with the terms and conditions of the Open Access Transmission Tariff filed on behalf of FPC.

FPC is requesting an effective date of April 15, 2001 for the Service Agreements.

A copy of the filing was served upon the Florida Public Service Commission.

Comment date: June 1, 2001, in accordance with Standard Paragraph E at the end of this notice.

31. Progress Energy, Inc. On behalf of Carolina Power & Light Company

[Docket No. ER01-2027-000]

Take notice that on May 11, 2001, Carolina Power & Light Company (CP&L) tendered for filing Service Agreements for Short-Term Firm and Non-Firm Point-to-Point Transmission Service with FirstEnergy Services Corp. Service to this Eligible Customer will be in accordance with the terms and conditions of the Open Access Transmission Tariff filed on behalf of CP&L.

CP&L is requesting an effective date of April 15, 2001 for the Service Agreements.

Copies of the filing were served upon the North Carolina Utilities Commission and the South Carolina Public Service Commission.

Comment date: June 1, 2001, in accordance with Standard Paragraph E at the end of this notice.

32. American Electric Power Service Corporation

[Docket No. ER01-2028-000]

Take notice that on May 11, 2001, the American Electric Power Service Corporation (AEPSC) tendered for filing blanket Service Agreements for new customers and replacement blanket Service Agreements for existing customers under the AEP Companies' Power Sales Tariffs. The Power Sales Tariffs were accepted for filing by the Commission as FERC Electric Tariff Original Volume No. 5, Effective October 10, 1997 in Docket Number ER 97-4143-00 and FERC Electric Tariff Original Volume No. 8, Effective January 8, 1998 in Docket Number ER 98-542-000.

AEPSC respectfully requests waiver of notice to permit the Service Agreements to be made effective to be effective on or prior to April 16, 2001.

A copy of the filing was served upon the Parties and the State Utility Regulatory Commissions of Arkansas, Indiana, Kentucky, Louisiana, Michigan, Ohio, Oklahoma, Tennessee, Texas, Virginia and West Virginia.

Comment date: June 1, 2001, in accordance with Standard Paragraph E at the end of this notice.

33. South Carolina Electric & Gas Company

[Docket No. ER01-2029-000]

Take notice that on May 11, 2001, South Carolina Electric & Gas Company (SCE&G) tendered for filing an executed service agreement with SCE&G Merchant Function providing for transmission and ancillary services on a long-term basis to the Ravenel Delivery Point pursuant to SCE&G's Open Access Transmission Tariffs.

Comment date: June 1, 2001, in accordance with Standard Paragraph E at the end of this notice.

34. South Carolina Electric & Gas Company

[Docket No. ER01-2030-000]

Take notice that on May 11, 2001, South Carolina Electric & Gas Company (SCE&G) tendered for filing an executed service agreement establishing Central Electric Power Cooperative, Inc. (CEPC) as a customer under the terms of SCE&G's Negotiated Market Sales Tariff.

SCE&G requests an effective date of March 19, 2001, the date service commenced. Accordingly, SCE&G requests waiver of the Commission's notice requirements. Copies of this filing were served upon CEPC and the South Carolina Public Service Commission.

Comment date: June 1, 2001, in accordance with Standard Paragraph E at the end of this notice.

35. Northern Indiana Public Service Company

[Docket No. ER01-2031-000]

Take notice that on May 11, 2001, Northern Indiana Public Service Company (Northern Indiana) tendered for filing a Service Agreement pursuant to its Wholesale Market-Based Rate Tariff with the CMS Marketing, Services and Trading Company (CMS). Northern Indiana has requested an effective date of May 14, 2000.

Copies of this filing have been sent to CMS, the Indiana Utility Regulatory Commission, and the Indiana Office of Utility Consumer Counselor.

Comment date: June 1, 2001, in accordance with Standard Paragraph E at the end of this notice.

36. Tucson Electric Power Company

[Docket No. ER01-2033-000]

Take notice that on May 11, 2001, Tucson Electric Power Company tendered for filing one (1) Service Agreement (for firm service) pursuant to Part II of Tucson's Open Access Transmission Tariff, which was filed in Docket No. ER01-208-000.

The details of the service agreement is as follows:

1. Service Agreement for Firm Point-to-Point Transmission Service dated as of March 23, 2001 by and between Tucson Electric Power Company and Arizona Electric Power Cooperative, Inc.—FERC Electric Tariff Vol. No. 2, Service Agreement No. 166. No service has commenced at this time.

Comment date: June 1, 2001, in accordance with Standard Paragraph E at the end of this notice.

37. Tucson Electric Power Company

[Docket No. ER01-2034-000]

Take notice that on May 11, 2001, Tucson Electric Power Company tendered for filing one (1) Umbrella Service Agreement (for short-term firm service) and one (1) Service Agreement (for non-firm service) pursuant to Part II of Tucson's Open Access Transmission Tariff, which was filed in Docket No. ER01-208-000.

The details of the service agreements are as follows:

1. Umbrella Agreement for Short-Term Firm Point-to-Point Transmission Service dated as of March 5, 2001 by and between Tucson Electric Power Company and Calpine Energy Services, L.P.—FERC Electric Tariff Vol. No. 2, Service Agreement No. 159. No service has commenced at this time.

2. Form of Service Agreement for Non-Firm Point-to-Point Transmission Service dated as of March 5, 2001 by and between Tucson Electric Power Company and Calpine Energy Serves, L.P.—FERC Electric Tariff Vol. No. 2, Service Agreement No. 160. No service has commenced at this time.

Comment date: June 1, 2001, in accordance with Standard Paragraph E at the end of this notice.

38. Allegheny Energy Service Corporation on Behalf of Monongahela Power Company, The Potomac Edison Company, and West Penn Power Company (Allegheny Power)

[Docket No. ER01-2035-000]

Take notice that on May 11, 2001, Allegheny Energy Service Corporation on behalf of Monongahela Power Company, The Potomac Edison Company and West Penn Power Company (Allegheny Power), tendered for filing Service Agreement No. 352 to add Calpine Energy Services, L.P. to Allegheny Power's Open Access Transmission Service Tariff which has been accepted for filing by the Federal Energy Regulatory Commission in Docket No. ER96-58-000. The proposed effective date under the Service Agreement is May 10, 2001 or a date ordered by the Commission.

Copies of the filing have been provided to the Public Utilities Commission of Ohio, the Pennsylvania Public Utility Commission, the Maryland Public Service Commission, the Virginia State Corporation Commission, and the West Virginia Public Service Commission.

Comment date: June 1, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12950 Filed 5-22-01; 8:45 am]

BILLING CODE 6717-01-P